CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Ms. Marci Hunn, at (202) 606-5000, extension 432, (mhunn@cns.gov); (TTY/TDD) at (202) 606-5256 between the hours of 9 a.m. and 4 p.m. eastern standard time, Monday through Friday.

ADDRESSES: Comments may be submitted, identified by the title of the information collection activity, to the Office of information and Regulatory Affairs, Attn: Ms. Katherine Astrich, OMB Desk Office for the Corporation for National and community Service, by any of the following two methods within 30 days from the date of publication in this Federal Register.

(1) By fax to: (202) 395-6974, Attention: Ms. Katherine Astrich, OMB Desk Officer for the Corporation for National and Community Service; and

(2) Electronically by e-mail to: Katherine_T._Astrich@omb.eop.gov.

The initial 60-day Federal Register notice for the Challenge Grant Application Instructions was published on February 14, 2005. This comment period ended on April 15, 2005; no comments were received.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: New.

Agency: Corporation for National and Community Service.

Title: Challenge Grant Application Instructions.

OMB Number: None.

Agency Number: None.

Affected Public: Organizations who are interested applying for Challenge Grant funding.

Total Respondents: 40.

Frequency: On occasion.

Average Time Per Response: Ten (10) hours.

Estimated Total Burden Hours: 400 hours.

Total Burden Cost (capital/startup): None.

Total Burden Cost (operating/maintenance): None.

Description: The purpose of these Challenge Grants is to assist nonprofit organizations in securing previously untapped sources of private funds to build sustainable national and community service programs. Organizations receiving funds must either greatly expand services by engaging citizens in meeting community needs or offer new services through expanded citizen engagement.

The Application Instructions submitted as part of this public collection request are pertinent only to the Corporation's online application system, eGrants. As noted in the 60-day notice published on February 14, 2005, use of the government-wide grants application system, Grants.gov, for this competition was dependent upon that system's ability to accommodate the Corporation's specific individualized needs. We are continuing to cooperate with Grants.gov in developing the capability to accept applications through that system. Instructions for applying through Grants.gov will be developed and submitted for approval when that system is compatible with our technical application requirements.

Dated: April 29, 2005.
Marlene Zakai,
Director, Office of Grants Policy and Operation.

[FR Doc. 05-9009 Filed 5-5-05; 8:45 am]

BILLING CODE 6050-$$-P